NUCLEAR REGULATORY COMMISSION

Biweekly Notice; Applications and Amendments to Facility Operating Licenses Involving No Significant Hazards Considerations

I. Background

Pursuant to Public Law 97-415, the U.S. Nuclear Regulatory Commission (the Commission or NRC staff) is publishing this regular biweekly notice. Public Law 97-415 revised section 189 of the Atomic Energy Act of 1954, as amended (the Act), to require the Commission to publish notice of any amendments issued, or proposed to be issued, under a new provision of section 189 of the Act. This provision grants the Commission the authority to issue and make immediately effective any amendment to an operating license upon a determination by the Commission that such amendment involves no significant hazards consideration, notwithstanding the pendency before the Commission of a request for a hearing from any person.

This biweekly notice includes all notices of amendments issued, or proposed to be issued, from October 3, 2003, through October 16, 2003. The last biweekly notice was published on October 14, 2003 (68 FR 59212).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received before action is taken. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area 01F21, 11555 Rockville Pike (first floor), Rockville, Maryland. The filing of requests for a hearing and petitions for leave to intervene is discussed below.

By November 28, 2003, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of a hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemaking and Adjudications Staff, or may be delivered to the Commission's PDR, located at One White Flint North, Public File Area 01F21, 11555 Rockville Pike (first floor), Rockville, Maryland, by the above date. Because of continuing disruptions in delivery of mail to United States Government offices, it is requested that petitions for leave to intervene and requests for hearing be transmitted to the Secretary of the Commission either by means of facsimile transmission to 301-415-1101 or by e-mail to hearingdocket@nrc.gov. A copy of the request for hearing and petition for leave to intervene should also be sent to the Office of the General Counsel, U.S. Nuclear Regulatory Commission, Washington, DC 20555-0001, and because of continuing disruptions in delivery of mail to United States Government offices, it is requested that copies be transmitted either by means of facsimile transmission to 301-415-3725 or by e-mail to OGCMailCenter@nrc.gov. A copy of the request for hearing and petition for leave to intervene should also be sent to the attorney for the licensee.

Nontimely filings of petitions for leave to intervene, amended petitions, supplemental petitions and/or requests for a hearing will not be entertained absent a determination by the Commission, the presiding officer or the Atomic Safety and Licensing Board that the petition and/or request should be granted based upon a balancing of factors specified in 10 CFR 2.714(a)(1)(i)-(v) and 2.714(d).

For further details with respect to this action, see the application for amendment which is available for public inspection at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the NRC PDR Reference staff at 1-800-397-4209, 301-415-4737 or by e-mail to pdr@nrc.gov.

Exelon Generation Company, LLC, Docket Nos. STN 50-454 and STN 50-455, Byron Station, Unit Nos. 1 and 2, Ogle County, Illinois;Docket Nos. STN 50-456 and STN 50-457, Braidwood Station, Unit Nos. 1 and 2, Will County, Illinois

Date of amendment request: August 15, 2003.

Description of amendment request: The proposed amendments would revise Technical Specification (TS) 3.4.15, “RCS [Reactor Coolant System] Leakage Detection Instrumentation,” to require one containment sump monitor and one containment atmosphere particulate radioactivity monitor to be operable in Modes 1, 2, 3, and 4. The amendments would eliminate the gaseous channel from Limiting Condition for Operation (LCO) 3.4.15 and restrict the LCO for the containment atmosphere radioactivity monitor to the particulate channel.

Basis for proposed no significant hazards consideration determination: As required by 10 CFR 50.91(a), the licensee has provided its analysis of the issue of no significant hazards consideration, which is presented below:

1. The proposed TS change does not involve a significant increase in the probability or consequences of an accident previously evaluated.

The proposed change has been evaluated and determined to not increase the probability or consequences of an accident previously evaluated. The proposed change does not make any hardware changes and does not alter the configuration of any plant system, structure or component (SSC). The proposed change only removes the containment atmosphere gaseous radioactivity monitor as an option for meeting the operability requirement for TS LCO 3.4.15. The containment radiation monitors are not initiators of any accident; therefore, the probability of occurrence of an accident is not increased. The TS will continue to require diverse means of leakage detection equipment, thus ensuring that leakage due to cracks would continue to be identified prior to breakage and the plant shutdown accordingly. Therefore, the consequences of an accident are not increased.

2. The proposed TS change does not create the possibility of a new or different kind of accident from any accident previously evaluated.

The proposed change does not involve the use or installation of new equipment and the currently installed equipment will not be operated in a new or different manner. No new or different system interactions are created and no new processes are introduced. The proposed changes will not introduce any new failure mechanisms, malfunctions, or accident initiators not already considered in the design and licensing bases. The proposed change does not affect any SSC associated with an accident initiator. Based on this evaluation, the proposed change does not create the possibility of a new or different kind of accident from any accident previously evaluated.

3. The proposed TS change does not involve a significant reduction in a margin of safety.

The proposed change does not make any alteration to any RCS leakage detection components. The proposed change only removes the containment atmosphere gaseous radioactivity monitor as an option for meeting the operability requirement for TS LCO 3.4.15, since the level of radioactivity in the Byron/Braidwood Stations reactor coolant has become much lower than what was assumed in the Byron/Braidwood Stations UFSAR [Updated Final Safety Analysis Report] and the gaseous channel l can no longer promptly detect a small RCS leak consistent with the technical basis in the approved leak-before-break analysis for Byron and Braidwood Stations. The proposed amendment continues to require, in the TS, diverse means of leakage detection equipment with capability to promptly detect RCS leakage. Although not required by TS, additional diverse means of leakage detection capability are available. Based on this evaluation, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Edward J. Cullen, Deputy General Counsel, Exelon BSC—Legal, 2301 Market Street, Philadelphia, PA 19101.

NRC Section Chief: Anthony J. Mendiola.

Florida Power and Light Company, Docket No. 50-335, St. Lucie Plant, Unit No. 1, St. Lucie County, Florida

Date of amendment request: September 18, 2003.

Description of amendment request: This amendment would revise the licensing bases to utilize the alternate source term (AST) as allowed in 10 CFR 50.67 for reanalysis of the radiological consequences of the Updated Final Safety Analysis Report Chapter 15 accidents. The established Regulatory Guide 1.183 AST methodology is being used to calculate the radiological consequences in the control room and offsite. The AST results are used to support the habitability program of the control room by addressing the radiological impact of increased control room unfiltered air in-leakage.

Basis for proposed no significant hazards consideration determination: As required by 10 CFR 50.91(a), the licensee has provided its analysis of the issue of no significant hazards consideration, which is presented below:

1. The proposed amendment does not involve a significant increase in the probability or consequences of an accident previously evaluated.

Alternative source term calculations have been performed for St. Lucie Unit 1 that demonstrate the dose consequences remain below limits specified in NRC Regulatory Guide 1.183 and 10 CFR 50.67. The proposed change does not modify the design or operation of the plant. The use of an AST changes only the regulatory assumptions regarding the analytical treatment of the design basis accidents and has no direct effect on the probability of any accident. The AST has been utilized in the analysis of the limiting design basis accidents listed above. The results of the analyses, which include the proposed changes to the Technical Specifications, demonstrate that the dose consequences of these limiting events are all within the regulatory limits. The proposed Technical Specification changes to the RCS [reactor coolant system] operational leakage limits and to the shield building bypass leakage rate acceptance criterion result in more restrictive requirements and support the AST revisions to the limiting design basis accidents.

Therefore, the proposed change does not involve a significant increase in the probability or consequences of an accident previously evaluated.

2. The proposed amendment does not create the possibility of a new or different kind of accident from any accident previously evaluated.

The proposed change does not affect any plant structures, systems, or components. The operation of plant systems and equipment will not be affected by this proposed change. The alternative source term and the more restrictive proposed leakage limits do not have the capability to initiate accidents.

Therefore, the proposed change does not create the possibility of a new or different kind of accident from any accident previously evaluated.

3. The proposed amendment does not involve a significant reduction in the margin of safety.

The proposed implementation of the alternative source term methodology is consistent with NRC Regulatory Guide 1.183. The Technical Specification changes to the RCS operational leakage limits and to the shield building bypass leakage rate acceptance criterion result in more restrictive requirements and support revisions to the radiological analyses of the limiting design basis accidents. Conservative methodologies, per the guidance of RG 1.183, have been used in performing the accident analyses. The radiological consequences of these accidents are all within the regulatory acceptance criteria associated with use of the alternative source term methodology.

The proposed changes continue to ensure that the doses at the exclusion area and low population zone boundaries and in the control room are within the corresponding regulatory limits of RG 1.183 and 10 CFR 50.67. The margin of safety for the radiological consequences of these accidents is considered to be that provided by meeting the applicable regulatory limits, which are set at or below the 10 CFR 50.67 limits. An acceptable margin of safety is inherent in these limits.

Therefore, the proposed change does not involve a significant reduction in the margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Section Chief: Allen G. Howe.

Florida Power and Light Company, et al., Docket Nos. 50-335 and 50-389, St. Lucie Plant, Unit Nos. 1 and 2, St. Lucie County, Florida

Date of amendment request: September 18, 2003.

Description of amendment request: The proposed amendments would revise the Technical Specifications (TSs) for control room ventilation systems to model NUREG-1432, Combustion Engineering Standard Technical Specifications (CE STSs). The change includes replacing the detailed filter testing surveillance requirements currently in the St. Lucie Units 1 and 2 control room ventilation systems TSs with a requirement to test in accordance with the Ventilation Filter Testing Program.

In addition, the proposed amendments would revise TS Table 3.3-6, Radiation Monitoring Instrumentation, for St. Lucie Units 1 and 2, to resolve inconsistencies due to changes associated with TS Amendments 184 (Unit 1) and 127 (Unit 2).

The proposed amendments also include minor miscellaneous editorial corrections to the TSs.

Basis for proposed no significant hazards consideration determination: As required by 10 CFR 50.91(a), the licensee has provided its analysis of the issue of no significant hazards consideration, which is presented below:

(1) Operation of the facility in accordance with the proposed amendments would not involve a significant increase in the probability or consequences of an accident previously evaluated.

The proposed changes to the St. Lucie Unit 1 & 2 Technical Specifications will adopt the format of the NUREG-1432 Combustion Engineering Standard Technical Specifications for the Unit 1 control room emergency ventilation system and the Unit 2 control room emergency air cleanup system. Additionally, the Ventilation Filter Testing Program of the CE STS is being adopted for the aforementioned ventilation systems. No changes are being made to the methods of testing, testing scope, or acceptance criteria.

The proposed changes also correct mode applicability requirements for the containment isolation radiation monitor (both units) and the fuel storage pool gaseous and particulate monitors (both units). These corrections are necessary in order to restore consistency with related technical specification requirements for the containment isolation system and associated fuel pool area ventilation systems.

The equipment and systems involved are associated with accident mitigation. The surveillance testing of this equipment has no bearing on the initiation of an accident previously evaluated nor on the probability of any accident previously evaluated.

Implementing the proposed changes does not significantly increase the consequences of an accident previously evaluated. The performance requirements and acceptance criteria for the affected ventilation systems are not being changed. The ability of the affected systems to mitigate the effects of postulated accidents is not diminished by the proposed changes.

The changes being proposed do not affect assumptions contained in the plants' safety analyses or the physical design of the plants, nor do they affect other technical specifications that preserve safety analysis assumptions. Therefore, operation of the facility in accordance with the proposed amendments would not involve a significant increase in the probability or consequences of an accident previously analyzed.

(2) Operation of the facility in accordance with the proposed amendments would not create the possibility of a new or different kind of accident from any previously evaluated.

The proposed amendments do not involve any changes to the operation or performance requirements of the affected systems, nor do they involve the addition or modification of any plant equipment. As such, the proposed changes do not create the possibility of a new or different kind of accident from any accident previously evaluated.

(3) Operation of the facility in accordance with the proposed amendments would not involve a significant reduction in a margin of safety.

The margin of safety as defined by 10 CFR Part 100 has not been significantly reduced. There will be no decrease in the ability of the affected systems to perform their intended safety functions as assumed in accident analyses. The proposed changes do not alter the bases for assurance that safety-related activities are performed correctly or the basis for any Technical Specification related to the establishment of or maintenance of a safety margin.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Section Chief: Allen G. Howe.

Florida Power and Light Company, Docket No. 50-389, St. Lucie Plant, Unit No. 2, St. Lucie County, Florida

Date of amendment request: September 18, 2003.

Description of amendment request: This amendment would revise the licensing bases for St. Lucie Unit 2 to utilize the alternate source term (AST) as allowed in 10 CFR 50.67 for reanalysis of the radiological consequences of the Updated Final Safety Analysis Report (UFSAR) Chapter 15 accidents. The established Regulatory Guide 1.183 AST methodology is being used to calculate the radiological consequences in the control room and offsite. The AST results are used to support the habitability program of the control room by addressing the radiological impact of increased control room unfiltered air in-leakage. Basis for proposed no significant hazards consideration determination: As required by 10 CFR 50.91(a), the licensee has provided its analysis of the issue of no significant hazards consideration, which is presented below:

1. The proposed amendment does not involve a significant increase in the probability or consequences of an accident previously evaluated.

Alternative source term analyses have been performed for St. Lucie Unit 2 that demonstrate the dose consequences remain below limits specified in NRC Regulatory Guide 1.183 and 10 CFR 50.67. The proposed change does not modify the design or operation of the plant. The use of an AST changes only the regulatory assumptions regarding the analytical treatment of the design basis accidents and has no direct effect on the probability of any accident. The AST has been utilized in the analysis of the limiting design basis accidents listed above. The results of the analyses, which include the proposed changes to the Technical Specifications, demonstrate that the dose consequences of these limiting events are all within the regulatory limits.

The proposed Technical Specification changes to the RCS operational leakage limits, the shield building bypass leakage rate acceptance criterion, and the ECCS ventilation system surveillance requirements result in more restrictive requirements and support the AST revisions to the limiting design basis accidents. The ECCS area ventilation system does not initiate any design basis accidents. Thus, performing additional surveillance tests do not increase the probability of any previously evaluated accident. The additional surveillance tests will not increase the consequence of any previously evaluated accident, rather the surveillance tests provide additional assurance that the HEPA filters are capable of mitigating the consequences of accidents consistent with AST assumptions.

Therefore, the proposed change does not involve a significant increase in the probability or consequences of an accident previously evaluated.

2. The proposed amendment does not create the possibility of a new or different kind of accident from any accident previously evaluated.

The proposed change does not affect any plant structures, systems, or components. The operation of plant systems and equipment will not be affected by this proposed change. The alternative source term, the more restrictive proposed leakage limits, and the ECCS filter surveillance do not have the capability to initiate accidents.

Therefore, the proposed change does not create the possibility of a new or different kind of accident from any accident previously evaluated.

3. The proposed amendment does not involve a significant reduction in the margin of safety.

The proposed implementation of the alternative source term methodology is consistent with NRC Regulatory Guide 1.183. The Technical Specification changes to the RCS operational leakage limits, the shield building bypass leakage rate acceptance criterion, and the ECCS ventilation system surveillance requirement, result in more restrictive requirements and support revisions to the radiological analyses of the limiting design basis accidents. Conservative RG 1.183 methodologies have been used in performing the accident analyses. The radiological consequences of these accidents are all within the regulatory acceptance criteria associated with use of the alternative source term methodology.

The proposed changes continue to ensure that the doses at the exclusion area and low population zone boundaries and in the control room are within the corresponding regulatory limits of RG 1.183 and 10 CFR 50.67. The margin of safety for the radiological consequences of these accidents is considered to be that provided by meeting the applicable regulatory limits, which are set at or below the 10 CFR 50.67 limits. An acceptable margin of safety is inherent in these limits.

Therefore, the proposed change does not involve a significant reduction in the margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Section Chief: Allen G. Howe.

Nebraska Public Power District, Docket No. 50-298, Cooper Nuclear Station, Nemaha County, Nebraska

Date of amendment request: July 15, 2003.

Description of amendment request: The proposed license amendment request would revise technical specification surveillance requirement 3.6.4.2.1 for locked, sealed, or secured secondary containment isolation valves (SCIVs).

Basis for proposed no significant hazards consideration determination: As required by 10 CFR 50.91(a), the licensee has provided its analysis of the issue of no significant hazards consideration, which is presented below:

1. Do the proposed changes involve a significant increase in the probability or consequences of an accident previously evaluated?

The proposed change does not affect the SCIV design or function. In addition, mis-positioned or failed SCIVs are not the initiator of any event. The position of a locked, sealed or secured valve and blind flange is verified at the time it is locked, sealed or secured. Further, since the change impacts only the frequency of verification of the blind flange and valve position, it does not result in any change in the response of the equipment to an accident.

Based on the above, NPPD concludes that changing the frequency for verifying the position of a locked, sealed or secured SCIV does not affect the probability or consequences of an accident previously evaluated.

2. Do the proposed changes create the possibility of a new or different kind of accident from any accident previously evaluated?

This change does not add any new equipment or result in any changes to equipment design or capabilities. This change also does not result in any changes to the operation of the plant. The position of a locked, sealed or secured blind flange and valve is verified at the time it is locked, sealed or secured. Further, since the change impacts only the frequency of verification of the blind flange and valve position, it does not result in any change in the response of the equipment to an accident.

Based on the above, NPPD concludes that changing the frequency for verifying the position of a locked, sealed or secured SCIV does not create the possibility of a new or different kind of accident from any previously evaluated.

3. Do the proposed changes involve a significant reduction in the margin of safety?

The SCIVs are administratively controlled and their operation is a non-routine event. The position of a locked, sealed or secured blind flange and valve is verified at the time it is locked, sealed or secured. Additionally, industry experience has shown the valves are generally found to be in the correct position. Since the change impacts only the frequency of verification of the blind flange and valve position, the proposed change will provide a similar level of assurance of correct SCIV position as the current frequency of verification.

Based on the above, NPPD concludes that changing the frequency for verifying the position of a locked, sealed or secured SCIV does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John R. McPhail, Nebraska Public Power District, Post Office Box 499, Columbus, NE 68602-0499.

NRC Section Chief: Robert A. Gramm.

PPL Susquehanna, LLC, Docket No. 50-388, Susquehanna Steam Electric Station, Unit 2, Luzerne County, Pennsylvania

Date of amendment request: September 16, 2003.

Description of amendment request: The proposed amendment would change the Unit 2 Technical Specifications (TSs) by revising the Unit 2 Cycle 12 (U2C12) Minimum Critical Power Ratio (MCPR) Safety Limits in Section 2.1.1.2.

Basis for proposed no significant hazards consideration determination: As required by 10 CFR 50.91(a), the licensee has provided its analysis of the issue of no significant hazards consideration, which is presented below:

1. Does the proposed change involve a significant increase in the probability of occurrence or consequences of an accident previously evaluated?

Response: No.

The proposed change to the MCPR Safety Limits does not directly or indirectly affect any plant system, equipment, component, or change the processes used to operate the plant. Further, the revised U2C12 MCPR Safety Limits are generated using NRC approved methodology and meet the applicable acceptance criteria. Thus, this proposed amendment does not involve a significant increase in the probability of occurrence of an accident previously evaluated.

The U2C12 licensing analyses were performed (using NRC approved methodology referenced in Technical Specification Section 5.6.5.b) to determine changes in the critical power ratio as a result of anticipated operational occurrences. These results are added to the revised MCPR Safety Limit values proposed herein to generate MCPR operating limits for a revised U2C12 COLR. The COLR operating limits thus assure that the MCPR Safety Limits will not be exceeded during normal operation or anticipated operational occurrences. Postulated accidents were also analyzed and the results shown to be within NRC approved criteria.

Therefore, this proposed amendment does not involve a significant increase in the probability of occurrence or consequences of an accident previously evaluated.

2. Does the proposed amendment create the possibility of a new or different kind of accident from any accident previously evaluated?

Response: No.

The change to the MCPR Safety Limits does not directly or indirectly affect any plant system, equipment, or component and therefore does not affect the failure modes of any of these items. Thus, the proposed changes do not create the possibility of a previously unevaluated operator error or a new single failure.

Therefore, this proposed amendment does not create the possibility of a new or different kind of accident from any previously evaluated.

3. Does the proposed amendment involve a significant reduction in a margin of safety?

Response: No.

Since the proposed changes do not alter any plant system, equipment, component, or the processes used to operate the plant, the proposed change will not jeopardize or degrade the function or operation of any plant system or component governed by Technical Specifications. The proposed MCPR Safety Limits do not involve a significant reduction in the margin of safety as currently defined in the Bases of the applicable Technical Specification sections, because the MCPR Safety Limits calculated for U2C12 preserve the required margin of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc, General Counsel, PPL Services Corporation, 2 North Ninth St., GENTW3, Allentown, PA 18101,1179.

NRC Section Chief: Richard J. Laufer.

Tennessee Valley Authority, Docket Nos. 50-260 and 50-296, Browns Ferry Nuclear Plant (BFN), Units 2 and 3, Limestone County, Alabama

Date of amendment request: September 18, 2003.

Description of amendment request: The proposed amendments would revise the reactor pressure vessel pressure-temperature (P-T) limit curves depicted in Technical Specifications (TS) Figure 3.4.9-1 and add a new TS Figure 3.4.9-2. Basis for proposed no significant hazards consideration determination: As required by 10 CFR 50.91(a), the licensee has provided its analysis of the issue of no significant hazards consideration, which is presented below:

1. Does the proposed change involve a significant increase in the probability or consequences of an accident previously evaluated?

No. The proposed Unit 2 and Unit 3 changes deal exclusively with the reactor vessel P-T curves, which define the permissible regions for operation and testing. Failure of the reactor vessel is not considered as a design basis accident. Through the design conservatisms used to calculate the P-T curves, reactor vessel failure has a low probability of occurrence and is not considered in the safety analyses. The proposed changes adjust the reference temperature for the limiting material to account for irradiation effects and provide the same level of protection as previously evaluated and approved. The adjusted reference temperature calculations were performed in accordance with the requirements of 10 CFR 50 Appendix G using the guidance contained in Regulatory Guide 1.190, “Calculational and Dosimetry Methods for Determining Pressure Vessel Neutron Fluence,” to reflect use of the operating limits to no more than 30 Effective Full Power Years (EFPY) for Unit 2 or 28 EFPY for Unit 3. These changes do not alter or prevent the operation of equipment required to mitigate any accident analyzed in the BFN Final Safety Analysis Report. Therefore, the proposed change does not involve a significant increase in the probability or consequences of an accident previously evaluated.

2. Does the proposed change create the possibility of a new or different kind of accident from any accident previously evaluated?

No. The proposed changes to the Unit 2 and Unit 3 reactor vessel P-T curves do not involve a modification to plant equipment. No new failure modes are introduced. There is no effect on the function of any plant system, and no new system interactions are introduced by this change. Therefore, the proposed change does not create the possibility of a new or different kind of accident from any previously evaluated.

3. Does the proposed change involve a significant reduction in a margin of safety?

No. The proposed curves conform to the guidance contained in Regulatory Guide 1.190, “Calculational and Dosimetry Methods for Determining Pressure Vessel Neutron Fluence,” and maintain the safety margins specified in 10 CFR 50 Appendix G. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Allen G. Howe.

Tennessee Valley Authority, Docket No. 50-296, Browns Ferry Nuclear Plant Unit 3, Limestone County, Alabama

Date of amendment request: October 1, 2003.

Description of amendment request: The proposed amendment would revise the numeric value of the safety limit minimum critical power ratio (SLMCPR) in Technical Specification (TS) 2.1.1.2 for one and two recirculation loop operation to incorporate the results of the Unit 3 Cycle 12 core reload analysis.

Basis for proposed no significant hazards consideration determination: As required by 10 CFR 50.91(a), the licensee has provided its analysis of the issue of no significant hazards consideration, which is presented below:

1. Does the proposed amendment involve a significant increase in the probability or consequences of an accident previously evaluated?

No. The proposed amendment establishes a revised SLMCPR value for one and two recirculation loop operation. The probability of an evaluated accident is derived from the probabilities of the individual precursors to that accident. The proposed SLMCPR values preserve the existing margin to transition boiling and the probability of fuel damage is not increased. Since the change does not require any physical plant modifications or physically affect any plant components, no individual precursors of an accident are affected and the probability of an evaluated accident is not increased by revising the SLMCPR values.

The consequences of an evaluated accident are determined by the operability of plant systems designed to mitigate those consequences. The revised SLMCPR values have been determined using NRC-approved methods and procedures. The basis of the MCPR Safety Limit is to ensure no mechanistic fuel damage is calculated to occur if the limit is not violated. These calculations do not change the method of operating the plant and have no effect on the consequences of an evaluated accident. Therefore, the proposed TS change does not involve an increase in the probability or consequences of an accident previously evaluated.

2. Does the proposed amendment create the possibility of a new or different kind of accident from any accident previously evaluated?

No. The proposed license amendment involves a revision of the SLMCPR value for one and two recirculation loop operation based on the results of an analysis of the Cycle 12 core. Creation of the possibility of a new or different kind of accident would require the creation of one or more new precursors of that accident. New accident precursors may be created by modifications of the plant configuration, including changes in the allowable methods of operating the facility. This proposed license amendment does not involve any modifications of the plant configuration or changes in the allowable methods of operation. Therefore, the proposed TS change does not create the possibility of a new or different kind of accident from any accident previously evaluated.

3. Does the proposed amendment involve a significant reduction in a margin of safety?

No. The margin of safety as defined in the TS bases will remain the same. The new SLMCPR values were calculated using NRC-approved methods and procedures, which are in accordance with the fuel design and licensing criteria. The SLMCPR remains high enough to ensure that greater than 99.9 percent of all fuel rods in the core are expected to avoid transition boiling if the limit is not violated, thereby preserving the fuel cladding integrity. Therefore, the proposed TS change does not involve a reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Allen G. Howe.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Tennessee Valley Authority, Docket No. 50-390 Watts Bar Nuclear Plant, Unit 1, Rhea County, Tennessee

Date of application for amendments: September 8, 2003, as supplemented September 11, 2003.

Brief description of amendments: The Updated Final Safety Analysis Report will be revised to reflect a change in the postulated primary-to-secondary leakage rate in a faulted steam generator in the main steamline break analysis.

Date of publication of individual notice in the Federal Register: September 18, 2003 (68 FR 54745).

Expiration date of individual notice: October 20, 2003.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room, located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the NRC Public Document Room (PDR) Reference staff at 1-800-397-4209, 301-415-4737 or by email to pdr@nrc.gov.

Exelon Generation Company, LLC, Docket Nos. 50-237 and 50-249, Dresden Nuclear Power Station, Units 2 and 3, Grundy County, Illinois

Date of application for amendments: December 20, 2002, as supplemented by letter dated May 30, 2003.

Brief description of amendments: The amendments modify the basis for licensee's compliance with the requirements of Appendix H to 10 CFR 50, “Reactor Vessel Material Surveillance Program Requirements” for Dresden Units 2 and 3. The amendment approves the licensee to implement the Boiling Water Reactor Vessel and Internals Project reactor pressure vessel integrated surveillance program.

Date of issuance: September 29, 2003.

Effective date: As of the date of issuance and shall be implemented prior to the next reactor vessel surveillance capsule removal.

Amendment Nos.: 202/194.

Facility Operating License Nos. DPR-19 and DPR-25: The amendments revised the Facility Operating Licenses and the Update Final Safety Analysis Report.

Date of initial notice in Federal Register: February 4, 2003 (68 FR 5669). The May 30, 2003, submittal provided additional clarifying information that did not change the initial proposed no significant hazards consideration. The Commission's related evaluation of the amendments is contained in a Safety Evaluation dated September 29, 2003.

No significant hazards consideration comments received: No.

Exelon Generation Company, LLC, Docket Nos. 50-237 and 50-249, Dresden Nuclear Power Station, Units 2 and 3, Grundy County, Illinois

Docket Nos. 50-254 and 50-265, Quad Cities Nuclear Power Station, Units 1 and 2, Rock Island County, Illinois

Date of application for amendments: February 14, 2003, as supplemented by letter dated August 8, 2003.

Brief description of amendments: The amendments relax the Technical Specifications (TSs) surveillance requirement (SR) for reactor instrumentation line excess flow check valves (EFCVs). Currently, TSs require testing of each reactor instrumentation line EFCV on a 24 month frequency. The proposed TS SR requires that a representative sample of reactor instrumentation line EFCVs be tested every 24 months, such that each EFCV will be tested nominally once every 10 years.

Date of issuance: October 10, 2003.

Effective date: As of the date of issuance and shall be implemented within 30 days.

Amendment Nos.: 203/195, 218/212.

Facility Operating License Nos. DPR-19, DPR-25, DPR-29 and DPR-30. The amendments revised the Technical Specifications.

Date of initial notice in Federal Register: May 13, 2003 (68 FR 25654). The August 8, 2003, submittal provided additional clarifying information that did not change the initial proposed no significant hazards consideration. The Commission's related evaluation of the amendments is contained in a Safety Evaluation dated October 10, 2003.

No significant hazards consideration comments received: No.

Exelon Generation Company, LLC, Docket Nos. 50-237 and 50-249, Dresden Nuclear Power Station, Units 2 and 3, Grundy County, Illinois

Date of application for amendments: February 26, 2003.

Brief description of amendments: The amendments authorize changes to the Updated Final Safety Analysis Report (UFSAR) to describe a load drop analysis performed for handling reactor cavity shield blocks weighing greater than 110 tons with the Unit 2/3 reactor building crane during power operation.

Date of issuance: October 10, 2003.

Effective date: As of the date of issuance and shall be implemented prior to handling reactor cavity shield blocks weighing greater than 110 tons with the Unit 2/3 reactor building crane for refueling outage D2R18.

Amendment Nos.: 204 and 196.

Facility Operating License Nos. DPR-19 and DPR-25: The amendments revised the UFSAR.

Date of initial notice in Federal Register: June 24, 2003 (68 FR 37576). The June 12, July 25, September 11, and October 9, 2003, submittals provided additional clarifying information that did not change the initial proposed no significant hazards consideration determination.

The Commission's related evaluation of the amendments is contained in a Safety Evaluation dated October 10, 2003.

No significant hazards consideration comments received: No.

Exelon Generation Company, LLC, and PSEG Nuclear LLC, Docket No. 50-278, Peach Bottom Atomic Power Station, Unit 3, York and Lancaster Counties, Pennsylvania

Date of application for amendments: June 23, 2003, as supplemented September 4, 2003.

Brief description of amendment: The amendment revised the Technical Specifications for the safety limit minimum critical power ratio.

Date of issuance: October 3, 2003.

Effective date: As of date of issuance and shall be implemented prior to startup for Cycle 15 operations, scheduled for October 2003.

Amendment No.: 252.

Facility Operating License No. DPR-56: The amendment revised the Technical Specifications.

Date of initial notice in Federal Register: August 5, 2003 (68 FR 46243). The September 4, 2003, letter provided information that did not change the initial proposed no significant hazards consideration determination or expand the application beyond the scope of the original Federal Register notice.

The Commission's related evaluation of the amendment is contained in a Safety Evaluation dated October 3, 2003.

No significant hazards consideration comments received: No.

FirstEnergy Nuclear Operating Company, Docket No. 50-346, Davis-Besse Nuclear Power Station, Unit 1, Ottawa County, Ohio

Date of application for amendment: April 1, 2001, as supplemented by letters dated April 30, and May 6, 2003.

Brief description of amendment: The proposed changes involve Technical Specification (TS) 3/4.3.1, “Reactor Protection System (RPS) Instrumentation,” TS 3/4.3.2.1, “Safety Features Actuation System (SFAS) Instrumentation,” and TS 3/4.3.2.2, “Steam and Feedwater Rupture Control System (SFRCS) Instrumentation.” The proposed changes to TS Table 3.3-3, “SFAS Instrumentation,” and Table 3.3-11, “SFRCS Instrumentation,” will allow an 8-hour delay in entering an action statement when an SFAS or SFRCS instrumentation channel is undergoing channel functional testing, and will clarify the term “total bypass function” for Surveillance Requirement (SR) 4.3.1.1.2, SR 4.3.2.1.2, and SR 4.3.2.2.2. In addition, the proposed changes will revise Bases 3/4.3.1 and 3/4.3.2 to reflect the above-described TS changes.

Date of issuance: September 29, 2003.

Effective date: As of the date of issuance and shall be implemented within 120 days.

Amendment No.: 259.

Facility Operating License No. NPF-3: Amendment revised the Technical Specifications.

Date of initial notice in Federal Register: May 30, 2001 (66 FR 29356). The supplemental letters contained clarifying information and did not change the initial no significant hazards consideration determination and did not expand the scope of the original Federal Register notice. The Commission's related evaluation of the amendment is contained in a Safety Evaluation dated September 29, 2003.

No significant hazards consideration comments received: No.

FirstEnergy Nuclear Operating Company, Docket No. 50-346, Davis-Besse Nuclear Power Station, Unit 1, Ottawa County, Ohio

Date of application for amendment: December 20, 2002.

Brief description of amendment: The amendment updates the title of the onsite review committee in Technical Specification (TS) sections 6.7, 6.14, and 6.15, and updates the version of Regulatory Guide 1.33 referenced in TS section 6.8.

Date of issuance: October 2, 2003.

Effective date: As of the date of issuance and shall be implemented within 120 days.

Amendment No.: 260.

Facility Operating License No. NPF-3: Amendment revised the Technical Specifications.

Date of initial notice in Federal Register: March 4, 2003 (68 FR 10279). The Commission's related evaluation of the amendment is contained in a Safety Evaluation dated October 2, 2003.

No significant hazards consideration comments received: No.

Florida Power Corporation, et al., Docket No. 50-302, Crystal River Unit No. 3 Nuclear Generating Plant, Citrus County, Florida

Date of application for amendment: October 23, 2002, as supplemented July 25 and August 11, 2003.

Brief description of amendment: The amendment revises Crystal River Unit 3 Improved Technical Specifications (ITS) 4.2.1, “Fuel Assemblies,” and ITS 4.2.2, “Control Rods,” to permit the use of Framatome ANP M5 advanced alloy for fuel rod cladding and fuel assembly structural components.

Date of issuance: October 1, 2003.

Effective date: As of the date of issuance and shall be implemented within 30 days of issuance.

Amendment No.: 210.

Facility Operating License No. DPR-72: Amendment revised the Technical Specifications.

Date of initial notice in Federal Register: January 7, 2003 (68 FR 805). The supplements dated July 25 and August 11, 2003, provided clarifying information only and did not change the initial proposed no significant hazards consideration determination or expand the scope of the initial application.

The Commission's related evaluation of the amendment is contained in a Safety Evaluation dated October 1, 2003.

No significant hazards consideration comments received: No.

Florida Power Corporation, et al., Docket No. 50-302, Crystal River Unit No. 3 Nuclear Generating Plant, Citrus County, Florida

Date of application for amendment: December 19, 2002, as supplemented May 9, June 9, July 15, July 31, and October 1, 2003.

Brief description of amendment: The amendment revises Crystal River Unit 3 Improved Technical Specification (ITS) 2.1.1, “Reactor Core Safety Limits.” The proposed change will permit the use of the BHTP correlation, which is needed to utilize the Framatome ANP high thermal performance (HTP) spacer grid design.

Date of issuance: October 16, 2003.

Effective date: October 16, 2003.

Amendment No.: 211.

Facility Operating License No. DPR-72: Amendment revised the License and Technical Specifications.

Date of initial notice in Federal Register: February 4, 2003 (68 FR 5677). The supplements dated May 9, June 9, July 15, July 31, and October 1, 2003, provided clarifying information only and did not change the initial proposed no significant hazards consideration determination or expand the scope of the initial application.

The Commission's related evaluation of the amendment is contained in a Safety Evaluation dated October 16, 2003.

No significant hazards consideration comments received: No.

FPL Energy Seabrook, LLC, Docket No. 50-443, Seabrook Station, Unit No. 1, Rockingham County, New Hampshire

Date of amendment request: February 3, 2003.

Description of amendment request: The amendment revises Technical Specification (TS) 3/4.7.1.4, “Turbine Cycle-Specific Activity,” and its associated bases. With the exception of TS 4.0.4, wording similar to that presented in the improved Standard Technical Specifications will be adopted. The amendment inserts an exception to the requirements of TS 4.0.4 when entering MODE 4, along with conditions for when the surveillance requirement must be satisfied in MODE 4. Additionally, there are editorial changes to the TS Index, reflecting the changes made by the amendment.

Date of issuance: October 3, 2003.

Effective date: As of its date of issuance, and shall be implemented within 90 days.

Amendment No.: 92.

Facility Operating License No. NPF-86: Amendment revised the TS.

Date of initial notice in Federal Register: April 29, 2003 (68 FR 22748). The Commission's related evaluation of the amendment is contained in a Safety Evaluation dated October 3, 2003.

No significant hazards consideration comments received: No.

FPL Energy Seabrook, LLC, Docket No. 50-443, Seabrook Station, Unit No. 1, Rockingham County, New Hampshire

Date of amendment request: October 11, 2002, as supplemented by letter dated May 29, 2003.

Description of amendment request: The amendment relocates Technical Specifications (TSs) Sections 3.1.2.1, “Reactivity Control Systems-Boration Systems-Flow Paths-Shutdown;” 3.1.2.2, “Reactivity Control Systems-Boration Systems-Flow Paths-Operating;” 3.1.2.3, “Reactivity Control Systems-Boration Systems-Charging Pumps-Shutdown;” 3.1.2.4, “Reactivity Control Systems-Boration Systems-Charging Pumps-Operating;” 3.1.2.5, “Reactivity Control Systems-Boration Systems-Borated Water Sources-Shutdown;” 3.1.2.6, “Reactivity Control Systems-Boration Systems-Borated Water Sources-Operating;” and 3.4.7, “Reactor Coolant System-Chemistry,” to the Seabrook Station Technical Requirements Manual (SSTR). The amendment also revises TS 3.1.2.7, “Reactivity Control Systems-Boration Systems-Isolation of Unborated Water Sources-Shutdown.”

The amendment also revises TSs 3.4.1.2, “Reactor Coolant System-Reactor Coolant Loops and Coolant Recirculation-Hot Standby;” 3.4.3, “Reactor Coolant System-Pressurizer;” 3.4.7, “Reactor Coolant System-Chemistry;” and 3.9.2, “Refueling Operations-Instrumentation,” to adopt wording that more closely resembles NUREG-1431, Revision 2, “Standard Technical Specifications.” The revision to TS 3/4.9.2 also involves surveillance changes. The associated Bases have been modified as a result of the changes.

Date of issuance: October 3, 2003.

Effective date: As of its date of issuance, and shall be implemented within 60 days.

Amendment No.: 93.

Facility Operating License No. NPF-86: The amendment revised the TSs.

Date of initial notice in Federal Register: December 10, 2002 (67 FR 75880). The May 29, 2003, letter provided clarifying information that did not change the initial proposed no significant hazards consideration determination or expand the amendment beyond the scope of the initial notice.

The Commission's related evaluation of the amendment is contained in a Safety Evaluation dated October 3, 2003.

No significant hazards consideration comments received: No.

FPL Energy Seabrook, LLC, Docket No. 50-443, Seabrook Station, Unit No. 1, Rockingham County, New Hampshire

Date of amendment request: October 11, 2002, as supplemented by letters dated May 30, 2003 (two letters), July 16, 2003, August 18, 2003, September 9, 2003, and September 15, 2003.

Description of amendment request: The amendment revises Technical Specification (TS) 3/4.9.4, Containment Building Penetrations,” to permit the equipment hatch to be open during core alterations and/or during movement of irradiated fuel assemblies within containment. Specifically, the applicability of the TS would be modified to apply only to the movement of recently irradiated fuel assemblies. Recently irradiated fuel assemblies would be described in the bases as fuel that has occupied part of a critical reactor core within the past 80 hours.

Date of issuance: October 3, 2003.

Effective date: As of its date of issuance, and shall be implemented within 60 days.

Amendment No.: 94.

Facility Operating License No. NPF-86: Amendment revises the TS.

Date of initial notice in Federal Register: November 26, 2002 (67 FR 70766). The May 30, 2003, July 16, 2003, August 18, 2003, September 9, 2003, and September 15, 2003, letters provided clarifying information that did not change the initial proposed no significant hazards consideration determination nor expand the amendment beyond the scope of the initial notice.

The Commission's related evaluation of the amendment is contained in a Safety Evaluation dated October 3, 2003.

No significant hazards consideration comments received: No.

FPL Energy Seabrook, LLC, Docket No. 50-443, Seabrook Station, Unit No. 1, Rockingham County, New Hampshire

Date of amendment request: October 11, 2002, as supplemented by letters dated July 16, 2003, July 17, 2003, August 18, 2003, August 25, 2003, September 9, 2003, and September 15, 2003.

Description of amendment request: The amendment revises Technical Specification (TS) 3/4.9.3, “Decay Time,” reducing the minimum time irradiated fuel must decay after occupying part of a critical core from 100 to 80 hours.

Date of issuance: October 3, 2003.

Effective date: As of its date of issuance, and shall be implemented within 60 days.

Amendment No.: 95.

Facility Operating License No. NPF-86: Amendment revises the TS.

Date of initial notice in Federal Register: November 26, 2002 (67 FR 70767). The July 16, 2003, July 17, 2003, August 18, 2003, August 25, 2003, September 9, 2003, and September 15, 2003, letters provided clarifying information that did not change the initial proposed no significant hazards consideration determination nor expand the amendment beyond the scope of the initial notice.

The Commission's related evaluation of the amendment is contained in a Safety Evaluation dated October 3, 2003.

No significant hazards consideration comments received: No.

Indiana Michigan Power Company, Docket Nos. 50-315 and 50-316, Donald C. Cook Nuclear Plant, Units 1 and 2, Berrien County, Michigan

Date of application for amendments: September 3, 2003.

Brief description of amendments: The amendments revise Technical Specification (TS) Limiting Condition for Operation (LCO) 3.6.5.1.d to replace the phrase “Each ice basket” with the phrase “Ice baskets.” This change makes the LCO consistent with associated TS Surveillance Requirement (SR) 4.6.5.1.b.2 and allows the SR to define the detailed requirements for ice basket weight.

Date of issuance: October 10, 2003.

Effective date: As of the date of issuance and shall be implemented within 45 days.

Amendment Nos.: 280 and 262.

Facility Operating License Nos. DPR-58 and DPR-74: Amendments revised the Technical Specifications.

Date of initial notice in Federal Register: September 10, 2003 (68 FR 53402). The Commission's related evaluation of the amendments is contained in a Safety Evaluation dated October 10, 2003.

No significant hazards consideration comments received: No.

PPL Susquehanna, LLC, Docket Nos. 50-387 and 50-388, Susquehanna Steam Electric Station, Units 1 and 2, Luzerne County, Pennsylvania

Date of application for amendments: July 3, 2003, as supplemented by letters dated September 9 and 23, 2003.

Brief description of amendments: These amendments revised the Technical Specifications, Section 3.8.1, “AC [alternating current] Sources—Operating,” to extend the allowable Completion Time for Required Actions for one offsite circuit inoperable, from 72 hours to 10 days on a one-time basis.

Date of issuance: October 10, 2003.

Effective date: Upon issuance and shall be implemented by October 31, 2003.

Amendment Nos.: 214 and 189.

Facility Operating License Nos. NPF-14 and NPF-22: The amendments revised the Technical Specifications.

Date of initial notice in Federal Register: July 22, 2003. (68 FR 43392). The supplemental letters dated September 9 and 23, 2003, provided clarifying information that did not expand the scope of the requested action as described in the initial Federal Register notice, and did not change the staff's proposed no significant hazards consideration determination.

The Commission's related evaluation of the amendments is contained in a Safety Evaluation dated October 10, 2003.

No significant hazards consideration comments received: No.

Tennessee Valley Authority, Docket No. 50-390, Watts Bar Nuclear Plant, Unit 1, Rhea County, Tennessee

Date of application for amendment: May 14, 2003, as supplemented June 24, 2003.

Brief description of amendment: The amendment revised Technical Specification (TS) 3.3.1, “Reactor Trip System Instrumentation,” and TS 3.4.1, “RCS [Reactor Coolant System] Pressure, Temperature, and Flow DNB [Departure from Nucleate Boiling] Limits.” The revised TS allows the measurement of RCS flow using the elbow flow tap methodology as an alternative to the current flow calorimetric method.

Date of issuance: October 3, 2003.

Effective date: As of the date of issuance and shall be implemented within 60 days.

Amendment No.: 47.

Facility Operating License No. NPF-90: Amendment revised the Technical Specifications.

Date of initial notice in Federal Register: June 24, 2003 (68 FR 37584). The supplemental letter provided clarifying information that did not expand the scope of the original request and did not change the initial proposed no significant hazards consideration determination.

The Commission's related evaluation of the amendment is contained in a Safety Evaluation dated October 3, 2003.

No significant hazards consideration comments received: No.

Tennessee Valley Authority, Docket No. 50-390, Watts Bar Nuclear Plant, Unit 1, Rhea County, Tennessee

Date of application for amendment: May 30, 2003, as supplemented August 18, September 10, September 30, and October 3, 2003.

Brief description of amendment: The amendment revised Technical Specification (TS) 3.5.1, “Accumulators,” TS 3.5.4, “Refueling Water Storage Tank (RWST)” and TS 4.2.1, “Fuel Assemblies,” to revise the minimum and maximum accumulator and RWST boron concentration and to limit the maximum number of tritium producing burnable absorber rods (TPBARs) that can be loaded into the reactor core accordingly. The requested change would also add the cycle-specific number of TPBARs to the Core Operating Limits Report. The licensee is revising the corresponding TS Bases pages.

Date of issuance: October 8, 2003.

Effective date: As of the date of issuance and shall be implemented within 60 days.

Amendment No.: 48.

Facility Operating License No. NPF-90: Amendment revised the Technical Specifications.

Date of initial notice in Federal Register: July 8, 2003 (68 FR 40720). The supplemental letters provided clarifying information that did not expand the scope of the original request and did not change the initial proposed no significant hazards consideration determination.

The Commission's related evaluation of the amendment is contained in a Safety Evaluation dated October 8, 2003.

No significant hazards consideration comments received: No.

TXU Generation Company LP, Docket Nos. 50-445 and 50-446, Comanche Peak Steam Electric Station, Unit Nos. 1 and 2, Somervell County, Texas

Date of amendment request: July 10, 2003, as supplemented by letter dated August 28, 2003.

Brief description of amendments: The amendments revise the Technical Specification (TS) reflecting approval of a one-time extension for each unit of allowable outage time for restoring the operability of control room emergency filtration system boundary.

Date of issuance: October 2, 2003.

Effective date: As of the date of issuance. The TS shall be implemented within 30 days from the date of issuance.

Amendment Nos.: 108 and 108.

Facility Operating License Nos. NPF-87 and NPF-89: The amendments revised the TS.

Date of initial notice in Federal Register: August 5, 2003 (68 FR 46246)

The August 28, 2003, supplemental letter provided clarifying information and did not change the scope of the original Federal Register notice or the staff's original no significant hazards consideration determination.

The Commission's related evaluation of the amendments is contained in a Safety Evaluation dated October 2, 2003.

No significant hazards consideration comments received: No.

Union Electric Company, Docket No. 50-483, Callaway Plant, Unit 1, Callaway County, Missouri

Date of application for amendment: October 3, 2002.

Brief description of amendment: The amendment revises Tables 3.3.1-1 (Reactor Trip System (RTS) Instrumentation) and 3.3.2-1 (Engineered Safety Feature Actuation System (ESFAS) Instrumentation) of Limiting Conditions for Operation 3.3.1, “RTS Instrumentation,” and 3.3.2, “ESFAS Instrumentation,” of the TSs. The revisions are for the SG water level low-low (adverse and normal containment environment) functions.

Date of issuance: October 2, 2003.

Effective date: October 2, 2003, and shall be implemented within 60 days of the date of issuance.

Amendment No.: 157.

Facility Operating License No. NPF-30: The amendment revised the Technical Specifications.

Date of initial notice in Federal Register: November 26, 2003 (67 FR 70770). The Commission's related evaluation of the amendment is contained in a Safety Evaluation dated October 2, 2003.

No significant hazards consideration comments received: No.

Virginia Electric and Power Company, et al., Docket Nos. 50-280 and 50-281, Surry Power Station, Units 1 and 2, Surry County, Virginia

Date of application for amendments: November 5, 2002, as supplemented February 14 and June 9, 2003.

Brief Description of amendments: These amendments revise the technical specifications to delete the monthly analog rod position test for the control rod bottom bistables.

Date of issuance: October 1, 2003.

Effective date: As of the date of issuance, and shall be implemented within 30 days.

Amendment Nos.: 237 and 236.

Renewed Facility Operating License Nos. DPR-32 and DPR-37: Amendments change the Technical Specifications surveillance requirements.

Date of initial notice in Federal Register: February 4, 2003 (68 FR 5683). The February 14 and June 9, 2003, supplements contained clarifying information only and did not change the initial proposed no significant hazards consideration determination or expand the scope of the initial application.

The Commission's related evaluation of the amendments is contained in a Safety Evaluation dated October 1, 2003.

No significant hazards consideration comments received: No.

Dated at Rockville, Maryland, this 20th day of October, 2003.
For the Nuclear Regulatory Commission.
Ledyard B. Marsh,
Director, Division of Licensing Project Management, Office of Nuclear Reactor Regulation.

[FR Doc. 03-26890 Filed 10-27-03; 8:45 am]

BILLING CODE 7590-01-P